DEPARTMENT OF THE INTERIOR

National Park Service

National Register of Historic Places; Notification of Pending Nominations and Related Actions

Nominations for the following properties being considered for listing or related actions in the National Register were received by the National Park Service before August 30, 2008.

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 30, 2008.

J. Paul Loether,
Chief, National Register of Historic Places/National Historic Landmarks Program.

ALABAMA

Mobile County

United States Court House and Custom House, 113 St. Joseph St., Mobile, 08000964

COLORADO

Chaffee County

Heister House, 102 Poncha Blvd., Salida, 08000965

FLORIDA

St. Johns County

Stanbury Cottage, 232 St. George St., St. Augustine, 08000966

GEORGIA

Bulloch County

Upper Lott's Creek Primitive Baptist Church and Cemetery, Metter-Portal Hwy. and Westside Rd., Metter, 08000967

Fulton County

General Electric Company Repair Shop Warehouse, 488 Glenn Ave., Fulton, 08000968

Harris County

Copeland, William and Ann, Jr., House, 19444 GA 116, Shiloh, 08000969

NEW JERSEY

Camden County

Mount Peace Cemetery and Funeral Directing Company Cemetery, 329 U.S. Rt. 30, Lawnside, 08000971

Cape May County

U.S. Life-Saving Station No. 35, 11617 2nd Ave., Stone Harbor Borough, 08000970

Somerset County

Vail-Trust House, 225 Greenbrook Rd., Green Brook, 08000972

Warren County

Phillipsburg Commercial Historic District, 29-169 S. Main St., 60-178 S. Main St., 3 Hudson St., 9 and 12-30 Morris St./Main St., 7-11, 17, and 21-27 Union Sq., Phillipsburg Town, 08000973

NORTH CAROLINA

Buncombe County

Proximity Park Historic District, Roughly bounded by Macon Ave., Howland Rd., Woodlink Rd., Charlotte St., and Sunset Trail, Asheville, 08000974

OHIO

Hamilton County

Sedamsville River Road Historic District, 2449-2734 River Rd., 309-317 Mt. Hope and 604 Mt. Echo, Cincinnati, 08000975

Perry County

Shawnee Historic District (Boundary Decrease) (Little Cities of Black Diamonds—Athens, Hocking, Perry Counties MPS) Along Main St., Walnut, St., 2nd and 3rd Sts., Shawnee, 08000978

OREGON

Lane County

Eugene Civic Stadium, 2077 Willamette St., Eugene, 08000977

WISCONSIN

Ashland County

MOONLIGHT shipwreck, (Great Lakes Shipwreck Sites of Wisconsin MPS) Address Restricted, La Pointe, 08000979

Columbia County

Lodi Downtown Historic District, 133, 137-139, 143, 147, 157, and 161-165 S. Main St., Lodi, 08000980

Outagamie County

Appleton Wire Works, 600 S. Atlantic St., Appleton, 08000981

Vilas County

Everett Resort, The, 1269 Everett Rd., Washington, 08000982

[FR Doc. E8-21372 Filed 9-12-08; 8:45 am]

BILLING CODE 4310-05-P